DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Global Diversity Export Initiative (GDEI) Business Mission to South Africa, Ghana, and Optional Stop in Nigeria, August 6-15, 2023. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

• ITA seeks to ensure that the trade mission represents a diverse swathe of U.S. businesses seeking to export. Considerations when reviewing applications will include: size of the company represented; volume and/or value of the company's current exports.

Balance of applicants' location may also be considered during the review process.

Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/travel/en/traveladvisories/traveladvisories.html/. Any question regarding insurance coverage must be resolved by the participant and its insurer of choice.

Definition of Small- and Medium-Sized Enterprise

For purposes of assessing participation fees, an applicant is a small- or medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Important Note About the COVID-19 Pandemic

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, a and notify the previously selected applicants with the option to opt-in to the new virtual program.

Mission List: (additional information about trade missions can be found at https://www.trade.gov/trade-missions).

Global Diversity Export Initiative (GDEI) Business Mission to South Africa, Ghana, and Optional Stop in Nigeria, August 6-15, 2023

Summary

The United States Department of Commerce, International Trade Administration (ITA), is organizing a Global Diversity Export Initiative (GDEI) Business Trade Mission to South Africa and Ghana with an optional stop in Nigeria from August 6-15, 2023. The timing of this mission is subject to change based on the confirmed dates of the African Growth and Opportunity Act (AGOA) Forum that is slated to take place in Johannesburg, South Africa, in August 2023. The mission will focus on building commercial bridges between U.S. businesses with owners and/or leaders from underserved communities (“underserved businesses” or “businesses from underserved communities”) with business communities in the target countries. The target participants will be businesses in the automotive, information and communication technology, safety and security, and consumer goods (i.e., cosmetic, toiletries, haircare, etc.) industries.

Recruitment and consideration will be extended to all export-ready companies that meet the established criteria for participation in the mission. ITA is seeking to improve outreach and representation of businesses with owners and/or leaders from underserved communities. This mission is in alignment with Executive Order 13985 on Advancing Racial Equity and Support for Underserved Communities Through the Federal Government (January 25, 2021) (E.O. 13985), the U.S. Department of Commerce Equity Action Plan, and the Global Diversity Export Initiative of the U.S. Commercial Service. For the purposes of the trade mission, ITA adopts the definition of “underserved communities” in E.O. 13985: “populations sharing a particular characteristic, as well as geographic communities, that have been systematically denied a full opportunity to participate in aspects of economic, social, and civic life, as exemplified by the list in the preceding definition of `equity.' ” “Equity” is defined by E.O. 13985 as “the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which includes “[s]trengthen[ing] small businesses in underserved communities by helping them be successful exporters”.

In addition to publishing notice of the trade mission in the Federal Register, ITA is committed to outreach and recruitment through collaboration with organizations with ties to underserved communities. Federal agencies that will help to support recruitment for this mission include the U.S. Export-Import Bank and the Minority Business Development Agency.

The mission will begin in Johannesburg, South Africa where delegates will participate in pre-arranged business to business (B2B) meetings with potential partners and customers and in market briefings with speakers from South Africa and surrounding countries. The market briefings will be an opportunity for mission participants to network and to gain a deeper understanding of the opportunities in the region. The market briefings will include Officers and Locally Employed Specialists from surrounding countries. Mission participants from the automotive industry have an optional site visit to a local automotive original equipment manufacturer (OEM). The mission will spend 2.5 days in South Africa. If the timing of the mission takes place alongside the anticipated AGOA Forum, participants could potentially spend extra time in South Africa to take advantage of the market briefings and networking opportunities associated with the Forum.

After South Africa, the mission will proceed to Ghana in West Africa. In Ghana, mission participants will have the opportunity to participate in pre-arranged B2B meetings with potential partners and customers as well as a potential site visit to a manufacturing facility. Given recent government regulations imposing additional tariffs on automotive imports, this sector is no longer considered viable for American automotive exporters. Companies involved in ICT and Safety & Security will be better situated for B2B meetings in Ghana.

After Ghana, mission participants have the option to proceed to the optional stop in Nigeria for two days after a weekend break. In Nigeria, participants will have B2B meetings with potential partners and customers. This stop will be optional as some of the target sectors for this mission face foreign exchange barriers making it difficult to enter and compete in the Nigerian market. It is noted that some consumer goods, including textiles and cosmetics/toiletries, are among the products that face this difficulty.¹ The mission will conclude in Nigeria.

¹ https://www.pulse.ng/business/cbn-fx-restriction-list-wheat-sugar-importation-ban/m45743k.

Proposed Timetable

* Note: The final schedule and potential site visits will depend on the availability of host government and business officials, specific goals of mission participants, and ground transportation. This timetable is subject to change once the confirmed dates for the AGOA Forum in August 2023 are announced.

Sunday August 6, 2023 | • Trade Mission Participants Arrive in South Africa.
| • Welcome Reception.
Monday August 7, 2023 | • Regional Market Briefings—AM.
| • B2B Matchmaking Meetings—PM.
Tuesday August 8, 2023 | • B2B Matchmaking Meetings Continue AM/PM.
| • Optional site visits to manufacturing facilities PM.
Wednesday August 9, 2023 | • Travel day to Ghana.
Thursday August 10, 2023 | • B2B meetings AM/PM.
| • Welcome Reception PM.
Friday August 11, 2023 | • B2B Matchmaking Meetings Continue AM.
| • Optional site visits to manufacturing facilities PM.
Saturday & Sunday August 12-13, 2023 | • Weekend in Ghana and depart for Nigeria for optional stop in Lagos.
August 14, 2023 | • B2B Matchmaking Meetings AM/PM.
| • Welcome Luncheon or Dinner.
August 15, 2023 | • B2B Matchmaking Meetings AM/PM.
| • Trade Mission concludes.

Participation Requirements

All parties interested in participating in the trade mission must submit an application package for consideration by the U.S. Department of Commerce (DOC). All applicants will be evaluated on their ability to meet the criteria as outlined above. A minimum of 20 participants will be selected for South Africa and Ghana, and 8 for the optional stop in Nigeria. The total number of participants will not exceed 30.

Fees and Expenses

After a firm or trade association has been selected to participate on the mission, a payment to the Department of Commerce in the form of a participation fee is required. The participation fee for the GDEI Business Development Trade Mission will be $3,725 for small or medium-sized enterprises (SME) ² and trade organizations for South Africa and Ghana stops and $5,720 for all three stops and $6,520 for South Africa and Ghana stops and $10,300 for all three stops for large firms. The fee for each additional firm representative (large firm or SME/trade organization) is $800 for SMEs and $1,300 for large companies. Expenses for travel, lodging, meals, and incidentals will be the responsibility of each mission participant. Interpreter and driver services can be arranged for additional cost. Delegation members will be able to take advantage of U.S. Embassy rates for hotel rooms.

² For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

If an applicant is selected to participate on a particular mission, a payment to the Department of Commerce in the amount of the designated participation fee below is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Timeframe for Recruitment and Applications

Mission recruitment will be conducted in an open and public manner, including publication in the Federal Register, posting on the Commerce Department trade mission calendar (http://export.gov/trademissions) and other internet websites, press releases to general and trade media, direct mail, notices by industry trade associations/organizations and other multiplier groups, and publicity at industry meetings, symposia, conferences, and trade shows. Recruitment for the mission will begin immediately and conclude no later than May 31, 2023. The U.S. Department of Commerce will review applications and inform applicants of selection decisions on a rolling basis. Applications received after May 31, 2023, will be considered only if space and scheduling constraints permit.

Contacts

Terri Batch, ITS/GDEI lead, West LA USEAC, (310) 597-3575, Terri.Batch@trade.gov.

Nathalie Scharf, Director, St. Louis USEAC, (314) 432-1500, Nathalie.Scharf@trade.gov.

Cynthia Griffin, RSCO, SSA, + 86-138-1197-8435, Cynthia.Griffin@trade.gov.

Mike Bromley, CO, South Africa, +27 11 290 3227, Michael.Bromley@trade.gov.

Gemal Brangman,
Director, ITA Events Management Task Force.

[FR Doc. 2023-03228 Filed 2-14-23; 8:45 am]

BILLING CODE 3510-DR-P